DEPARTMENT OF COMMERCE

International Trade Adminstration

[A-570-504]

Petroleum Wax Candles from the People's Republic of China: Initiation of Antidumping Duty New Shipper Reviews

AGENCY: Import Administration, International Trade Administration, Department of Commerce.

SUMMARY: The Department of Commerce (the Department) has received timely requests to conduct new shipper reviews of the antidumping duty order on petroleum wax candles from the People's Republic of China (PRC). In accordance with 19 CFR 351.214(d), we are initiating a review for Shanghai R&R Imp./Exp. Co., Ltd. (Shanghai) and its producer Qing Yuan Huaxing Arts and Crafts Candle Co., Ltd. (Qing Yuan), and for Changshan Import/Export Co., Ltd. (Changshan) and its producer Shaoxing Youcheng Artcraft Knitting Co., Ltd. (Shaoxing). We are also initiating a review for Shandong Huihe Trade Co., Ltd. (Huihe), which is both the exporter and the producer.

EFFECTIVE DATE: October 7, 2003.

FOR FURTHER INFORMATION CONTACT: Douglas Kirby or Dana Mermelstein, Office of AD/CVD Enforcement 7, Import Administration, International Trade Administration, U.S. Department of Commerce, 14th Street and Constitution Avenue, N.W., Washington, D.C. 20230; telephone: (202) 482-0961 or (202) 482-1391, respectively.

SUPPLEMENTARY INFORMATION:

Background

On August 14, 2003, the Department received timely requests from Shanghai and Changshan and on August 28, 2003 the Department received a timely request from Huihe pursuant to section 751(a)(2)(B) of the Tariff Act of 1930 (the Act) and in accordance with 19 CFR 351.214(c), for new shipper reviews under the antidumping duty order on petroleum wax candles from the PRC. This order has an August anniversary month. On August 27, 2003, the Department issued a letter to Shanghai and Changshan noting that there were similarities in the new shipper review requests for both companies, and we asked whether Shanghai and Changshan were related in any way. Shanghai and Changshan, in their response of August 29, 2003, replied that the similarities occurred because the sales by both Shanghai and Changshan occurred shortly after their counsel conducted a program in China discussing the U.S. antidumping law. Shanghai and Changshan further explained that, because of the schedule for filing new shipper review requests, they both arranged the sales and made the shipments on relatively short notice. While we noted the similarities in the shipments, the two companies claimed that they are not affiliated, and therefore they requested separate new shipper reviews. The Department will continue to examine carefully any similarities between Shanghai and Changshan throughout the review.

Initiation of Reviews

Pursuant to 19 CFR 351.214(b)(2)(i), 19 CFR 351.214(b)(2)(ii) and 19 CFR 351.214(b)(2)(iii)(A), in their August 14, 2003 requests for review, Shanghai and Changshan certified that they did not export the subject merchandise to the United States during the period of investigation (POI) and that neither they nor their producers are affiliated with any company which exported subject merchandise to the United States during the POI. Pursuant to 19 CFR 351.214(b)(ii)(B), Shanghai's producer, Qing Yuan, and Changshan's producer, Shaoxing, each certified that it did not export subject merchandise during the period of investigation. Pursuant to 19 CFR 351.214(b)(2)(i) Huihe (which is both the producer and exporter) certified that it did not export subject merchandise to the United States during the period of investigation. Pursuant to 19 CFR 351.214(b)(2)(iii)(B), Shanghai, Changshan, and Huihe further certified that their export activities are not controlled by the central government of the PRC. Also, in accordance with 19 CFR 351.214(b)(2)(iv), Shanghai, Changshan, and Huihe submitted documentation establishing the date on which each company first shipped the subject merchandise to the United States, the volume of each company's first and only shipment, and the date of the first sale to an unaffiliated customer in the United States.Therefore, in accordance with section 751(a)(2)(B) of the Act and 19 CFR 351.214(d), we are initiating new shipper reviews under the antidumping duty order on petroleum wax candles from the PRC. In accordance with 19 CFR 351.214(i), we intend to issue the preliminary results not later than 180 days from the date of initiation of these reviews. All provisions of 19 CFR 351.214 will apply to Shanghai, Changshan and Huihe throughout the duration of these new shipper reviews.

In accordance with 19 CFR 351.214(g)(1)(i)(A), the POR for a new shipper review initiated in the month immediately following the anniversary month is the twelve-month period immediately preceding the anniversary month. Therefore, the POR for these new shipper reviews is August 1, 2002 through July 31, 2003. Pursuant to section 751(a)(2)(B) of the Act and 19 CFR 351.214(d)(1), we are initiating new shipper reviews for shipments of petroleum wax candles from the PRC: (1) produced by Qing Yuan and exported by Shanghai; (2) produced by Shaoxing and exported by Changshan; and, (3) produced and exported by Huihe.

It is the Department's usual practice in cases involving non-market economies to require that a company seeking to establish eligibility for an antidumping duty rate separate from the country-wide rate provide de jure and de facto evidence of an absence of government control over the company's export activities. Accordingly, we will issue a questionnaire to Shanghai and Changshan (including a complete separate rates section), allowing approximately 37 days for response. If the response from each respondent provides sufficient indication that it is not subject to either de jure or de facto government control with respect to its exports of natural bristle paintbrushes and brush heads, the review will proceed. If, on the other hand, a respondent does not demonstrate its eligibility for a separate rate, then it will be deemed to be affiliated with other companies that exported during the POI and not eligible for a separate rate, and the review of that respondent will be rescinded.

Antidumping Duty New Shipper Reviews | Period to be reviewed
Shanghai R&R Imp./Exp. Co., Ltd./Produced by Qing YuanHuaxing Arts and Crafts Candle Co., Ltd. | 8/01/02-7/31/03
Changshan Import/Export Co., Ltd./Produced by Shaoxing Youcheng Artcraft Knitting Co., Ltd. | 8/01/02-7/31/03
Shandong Huihe Trade Co., Ltd./Produced by Shandong Huihe Trade Co., Ltd. | 8/01/02-7/31/03

We will instruct the U.S. Bureau of Customs and Border Protection (BCBP) to allow, at the option of the importer, the posting, of a single entry bond or security in lieu of a cash deposit for subject merchandise exported by and produced by the above listed companies. See 19 CFR 351.214(e). Shanghai and Changshan certified that they exported but did not produce the subject merchandise on which they based their new shipper review requests; Qing Yuan certified that it produced the subject merchandise exported by Shanghai and Shaoxing certified that it produced the subject merchandise exported by Changshan. Therefore, we will instruct BCBP to limit the bonding option only to entries of subject merchandise: (1) exported by Shanghai and produced by Qing Yuan; or (2) exported by Changshan and produced by Shaoxing. Shandong Huihe Trade Co., Ltd. certified that it is both the producer and exporter of the petroleum wax candles. Therefore, we will instruct BCBP to limit the bonding option only to entries of subject merchandise both produced and exported by Shandong Huihe Trade Co., Ltd.

Interested parties may submit applications for disclosure of business proprietary information under administrative protective order in accordance with 19 CFR 351.305 and 351.306.

This initiation and notice are in accordance with section 751(a)(2)(B) of the Act and 19 CFR 351.214.

Dated: September 30, 2003.
Joseph A. Spetrini,
Deputy Assistant Secretary for Import Administration, Group III.

[FR Doc. 03-25383 Filed 10-6-03; 8:45 am]

BILLING CODE 3510-DS-S